NATIONAL COUNCIL ON DISABILITY

Renewal of Advisory Committees

AGENCY: National Council on Disability (NCD).

SUMMARY: This notice announces the renewal of NCD's advisory committees—International Watch and Technology Watch.

FOR FURTHER INFORMATION CONTACT: Mark S. Quigley, Public Affairs Specialist, National Council on Disability, 1331 F Street NW., Suite 1050, Washington, DC 20004-1107; 202-272-2004 (voice), 202-272-2074 (TTY), 202-272-2022 (fax), mquigley@ncd.gov (e-mail).

AGENCY MISSION: The National Council on Disability is an independent federal agency composed of 15 members appointed by the President of the United States and confirmed by the U.S. Senate. Its overall purpose is to promote policies, programs, practices, and procedures that guarantee equal opportunity for all people with disabilities, regardless of the nature of severity of the disability; and to empower people with disabilities to achieve economic self-sufficiency, independent living, and inclusion and integration into all aspects of society.

International Watch

The purpose of NCD's International Watch is to share information on international disability issues and to advise NCD's Foreign Policy Team on developing policy proposals that will advocate for a foreign policy that is consistent with the values and goals of the Americans with Disabilities Act.

Technology Watch

NCD's Technology Watch (Tech Watch) is a community-based, cross-disability consumer task force on technology. Tech Watch provides information to NCD on issues relating to emerging legislation on technology and helps monitor compliance with civil rights legislation, such as Section 508 of the Rehabilitation Act of 1973, as amended.

These committees are necessary to provide advice and recommendations to NCD on international disability issues and technology accessibility for people with disabilities.

We currently have balanced membership representing a variety of disabling conditions from across the United States.

Signed in Washington, DC, on September 26, 2000.
Ethel D. Briggs,
Executive Director.

[FR Doc. 00-25104 Filed 9-29-00; 8:45 am]

BILLING CODE 6820-MA-M